SECURITIES AND EXCHANGE COMMISSION

Sunshine Act Meetings

FEDERAL REGISTER CITATION OF PREVIOUS ANNOUNCEMENT: 82 FR 56089, November 27, 2017.

PREVIOUSLY ANNOUNCED TIME AND DATE OF THE MEETING: Friday, December 1, 2017.

CHANGES IN THE MEETING: The following matter will also be considered during the 12 p.m. Closed Meeting scheduled for Friday, December 1, 2017: Formal orders of investigation.

CONTACT PERSON FOR MORE INFORMATION: For further information and to ascertain what, if any, matters have been added, deleted or postponed, please contact the Office of the Secretary at (202) 551-5400.

Dated: November 29, 2017.
Brent J. Fields,
Secretary.

[FR Doc. 2017-26103 Filed 11-29-17; 4:15 pm]

BILLING CODE 8011-01-P